DEPARTMENT OF COMMERCE

International Trade Administration

A-821-811

Ammonium Nitrate from the Russian Federation: Extension of Preliminary and Final Results of a Full Five-year Sunset Review of Suspended Antidumping Duty Investigation

AGENCY: Import Administration, International Trade Administration, Department of Commerce.

SUMMARY: The Department of Commerce (“the Department”) is extending the time limit for its preliminary results in the full sunset review of the suspended antidumping duty investigation on ammonium nitrate from the Russian Federation (“Russia”). As a result of this extension, the Department intends to issue the preliminary results of this sunset review on or about October 18, 2005 and the final results of this sunset review by February 27, 2006.

EFFECTIVE DATE: July 26, 2005.

FOR FURTHER INFORMATION CONTACT: Judith Wey Rudman or Aishe Allen, Import Administration, International Trade Administration, U.S. Department of Commerce, 14th Street and Constitution Avenue, N.W., Washington, D.C. 20230; telephone: (202) 482-0192, or 482-0172, respectively.

SUPPLEMENTARY INFORMATION:

Extension of Preliminary and Final Results

On April 1, 2005, the Department initiated a sunset review of the suspended antidumping duty investigation on ammonium nitrate from Russia pursuant to section 751(c) of the Tariff Act of 1930, as amended (“the Act”). See Notice of Initiation of Five-year (“Sunset”) Reviews, 70 FR 16800, (April 1, 2005). On the basis of notices of intent to participate filed on behalf of domestic interested parties and adequate substantive comments filed on behalf of domestic and respondent interested parties, the Department is conducting a full (240-day) review to determine whether termination of the suspension agreement on ammonium nitrate would lead to the continuation or recurrence of dumping. The Department's preliminary results of this review were scheduled for July 20, 2005 and its final results of this review were scheduled for November 29, 2005; however, the Department needs additional time for its analysis.

In accordance with section 751(c)(5)(B) of the Act, the Department may extend the period of time for making its preliminary determination in a sunset review by not more than 90 days, if it determines that the review is extraordinarily complicated. As set forth in section 751(c)(5)(C), the Department may, among other reasons, treat a sunset review as extraordinarily complicated if: (i) there are a large number of issues, (ii) the issues to be considered are complex or (iii) there are a large number of firms involved. In this proceeding, the Department has to consider complex issues related to the likelihood of continuation or recurrence of dumping, the appropriate margins likely to prevail if the suspension agreement is terminated, and developments during the administration of the suspension agreement. Therefore, the Department has determined, pursuant to section 751(c)(5)(C) of the Act, that the sunset review of the suspension agreement on ammonium nitrate from Russia is extraordinarily complicated and requires additional time for the Department to complete its analysis. Accordingly, the Department is extending the deadline in this proceeding, and, as a result, intends to issue the preliminary results of the sunset review of the suspension agreement on ammonium nitrate from Russia on or about October 18, 2005 and the final results of the sunset review by February 27, 2006.

This notice is issued and published in accordance with sections 751(c)(5)(B) and (C) of the Act.

Dated: July 19, 2005.
Joseph A. Spetrini,
Acting Assistant Secretary for Import Administration.

[FR Doc. 05-14727 Filed 7-25-05; 8:45 am]

BILLING CODE 3510-DS-S